DEPARTMENT OF COMMERCE

Bureau of Export Administration

Initiation of National Security Investigation of Imports of Iron Ore and Semi-Finished Steel

AGENCY: Bureau of Export Administration, Office of Strategic Industries and Economic Security, Strategic Analysis Division, Department of Commerce.

ACTION: Notice of initiation of national security investigation and request for public comments.

SUMMARY: This notice is to advise the public that an investigation has been initiated under section 232 of the Trade Expansion Act of 1962, as amended (19 U.S.C. 1862), to determine the effects on the national security of imports of iron ore and semi-finished steel. Interested parties are invited to submit written comments, opinions, data, information, or advice relative to the investigation to the Bureau of Export Administration, U.S. Department of Commerce.

DATES: Comments must be received by April 9, 2001.

ADDRESSES: Send three copies of written comments to Brad Botwin, Director, Strategic Analysis Division, Bureau of Export Administration, U.S. Department of Commerce, Room 3876, Washington, DC 20230.

FOR FURTHER INFORMATION CONTACT: Brad Botwin, Director, Strategic Analysis Division, Bureau of Export Administration, U.S. Department of Commerce, (202) 482-4060, bbotwin@bxa.doc.gov or Michael Vaccaro, Trade and Industry Analyst, Bureau of Export Administration, U.S. Department of Commerce, (202) 482-8232, mvaccaro@bxa.doc.gov. For more information about the section 232 program, including the regulations and the text of previous investigations, see www.doc-bxa.bmpcoe.org under “Programs.”

SUPPLEMENTARY INFORMATION:

Background

On February 1, 2001, the Department of Commerce initiated an investigation under section 232 of the Trade Expansion Act of 1962, as amended (19 U.S.C. 1862), to determine the effects on the national security of imports of iron ore and semi-finished steel. The findings and recommendations of the investigation are to be reported by the Secretary of Commerce to the President not later than October 29, 2001.

The iron ore and semi-finished steel products to be investigated include:

1. Iron Ore:

—Briquettes

—Pellets

—Sinter

2. Semi-finished Steel

—Ingots

—Billets

—Blooms

—Slab

This investigation is being undertaken in accordance with part 705 of the National Security Industrial Base Regulations (15 CFR parts 700 to 709) (the “regulations”). Interested parties are invited to submit written comments, opinions, data, information, or advice relevant to this investigation to the Office of Strategic Industries & Economic Security, U.S. Department of Commerce, no later than April 9, 2001. The Department is particularly interested in comments and information directed to the criteria listed in § 705.4 of the regulations as they affect national security, including the following: (a) Quantity of the article in question or other circumstances related to the importation of the articles subject to the investigation; (b) Domestic production and productive capacity needed for those articles to meet protected national defense requirements; (c) Existing and anticipated availability of human resources, products, raw materials, production equipment, and facilities to produce these items; (d) Growth requirements of domestic industries to meet national defense requirements and/or requirements to assure such growth; (e) The impact of foreign competition on the economic welfare of the domestic industry; and (f) The displacement of any domestic products causing substantial unemployment, decrease in the revenues of government, loss of investment or specialized skills and productive capacity, or other serious effects.

Those wishing to comment should submit three copies of all materials. Material that is national security classified information or business confidential information will be exempted from public disclosure as provided for by § 705.6 of the regulations. Anyone submitting business confidential information should clearly identify the business confidential portion of the submission, then file a statement justifying nondisclosure and reference to the specific legal authority claimed, and provide a non-confidential submission which can be placed in the public file. Communications from agencies of the United States Government will not be made available for public inspection.

If public hearings are held in support of this investigation, a separate Federal Register notice will be published.

The Bureau of Export Administration does not maintain a separate public inspection facility. Requesters should first view the Bureau's webpage, which can be found at http://www.bxa.doc.gov (see FOIA heading). If requesters cannot access the website, they may call 202-482-2165 for assistance. The records related to this assessment are made accessible in accordance with the regulations published in part 4 of title 15 of the Code of Federal Regulations (15 CFR 4.1 et seq.).

Dated: February 1, 2001.
Matthew Borman,
Deputy Assistant Secretary for Export Administration.

[FR Doc. 01-3059 Filed 2-5-01; 8:45 am]

BILLING CODE 3510-JT-P